DEPARTMENT OF COMMERCE

National Oceanic and Atmospheric Administration

RIN 0648-XF348

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application submitted by The Nature Conservancy (TNC) contains all of the required information and warrants further consideration. This EFP would allow participants to use electronic monitoring systems in lieu of at-sea monitors in support of a study to develop electronic monitoring for the purposes of catch monitoring in the groundfish fishery. Regulations under the Magnuson-Stevens Fishery Conservation and Management Act require publication of this notification to provide interested parties the opportunity to comment on applications for proposed EFPs.

DATES: Comments must be received on or before May 1, 2017.

ADDRESSES: You may submit written comments by either of the following methods:

• Email: nmfs.gar.efp@noaa.gov. Include in the subject line “TNC EM EFP RENEWAL.”

• Mail: John K. Bullard, Regional Administrator, NMFS, Greater Atlantic Regional Fisheries Office, 55 Great Republic Drive, Gloucester, MA 01930. Mark the outside of the envelope “TNC EM EFP RENEWAL.”

FOR FURTHER INFORMATION CONTACT: Brett Alger, Groundfish Policy Analyst, 978-675-2153.

SUPPLEMENTARY INFORMATION: In 2010, NMFS implemented Amendment 16 to the Northeast (NE) Multispecies Fishery Management Plan (FMP), which revised and expanded the sector management system and established annual catch limits and accountability measures for each stock in the fishery. In order to reliably estimate sector catch and monitor sector operations, Amendment 16 included new requirements for groundfish sectors to implement and fund an at-sea monitoring (ASM) program. Amendment 16 also included a provision that allows electronic monitoring (EM) to be used to satisfy this monitoring requirement, provided NMFS deems the technology sufficient for the purposes of catch accounting. EM incorporates video cameras, gear sensors, and electronic reporting systems into a vessel's fishing operations. Depending on the program design, EM has the potential to reduce the expenses associated with monitoring groundfish sectors, and, at the same time, increase accountability and monitoring in the fishery.

For the groundfish fishery, the program designs currently being considered are the “audit model” and the “maximized retention model.” The audit model would use EM to verify discards reported by a captain on a vessel trip report. Under the maximized retention model, vessels would be required to retain most fish species (e.g., allocated groundfish stocks), but be required to discard other species, such as those managed by trip limits (e.g., dogfish) or protected species (e.g., Atlantic salmon), and EM would be used to ensure compliance with discarding regulations. NMFS has not yet approved EM as a suitable alternative to ASM for the groundfish fishery; and there are a number of issues that must be resolved before EM could be implemented. To address these implementation issues, NMFS has been collaborating with TNC, the Gulf of Maine Research Institute, the Maine Coast Fishermen's Association, the Cape Cod Commercial Fishermen's Alliance, and Ecotrust Canada to implement an EM program that utilizes the audit model.

In May 2016, NMFS issued EFPs to vessels from the Georges Bank Cod Fixed Gear Sector, the Maine Coast Community Sector, the Sustainable Harvest Sector, and Northeast Fishery Sectors 5 and 11, which allowed them to use EM in lieu of ASMs on trips selected for ASM coverage. Under the EFP, 100 percent of the video from these trips was reviewed and used to identify and enumerate discards of groundfish species, we did not use discarded catch reported on the vessel trip report (VTR). With one month remaining in the 2016 fishing year, there have been approximately 20 successful EM trips, defined generally as having adequate video quality and ability to review catch handling; there were a few trips that were not usable. We had projected far more EM trips, but there was generally less fishing effort given low catch limits, and with an ASM coverage level of 14 percent, vessels were not selected very often to use EM. As a result, the 2016 EFP did not result in an appreciable amount of data collected to support EM development. However, vessels generally operated according to protocol, EM data was recorded and processed, and improvements to the program.

TNC has requested to renew the EFP for the 2017 fishing year to continue efforts to improve the functionality of EM, refine fish handling protocols, and support future implementation of the audit model. The 2017 EFP would be identical to the EFP issued for the 2016 fishing year, and would exempt participating vessels from adhering to their sector's monitoring plan, which requires the deployment of ASMs on sector trips selected for ASM coverage. While participating in the EM study, vessels would use EM to replace ASMs when selected for ASM coverage. EM would not replace Northeast Fishery Observer Program (NEFOP) observers. Under the EFP, vessels would declare sector trips in the Pre-Trip Notification System; however, if selected for ASM coverage, the vessel would be issued an ASM waiver and instead be required to turn on the EM system for the entire fishing trip. If selected for NEFOP coverage, the vessel would fish with a NEFOP observer and would also turn on the EM system for the entire trip. A third-party provider would review 100 percent of the video from each EM trip, and NMFS would audit the provider(s) to verify the accuracy of the EM data collected. For sector monitoring, NMFS uses a combination of the discard data collected from NEFOP observers and ASMs to estimate discards. For vessels participating in this EFP, NMFS would use the EM data collected in place of the ASM data. All other catch monitoring under the EFP would be consistent with standard sector monitoring, such as using dealer-reported landings and vessel trip reports.

Participation in this EFP would be heavily dependent on a separate EFP request that we have received, that would require vessels to run EM on every trip (i.e., 100 percent monitoring). If approved, we would issue EFPs for the new request no later than July 1, 2017. Therefore, it is difficult to project trip counts and catch estimates for this EFP renewal, knowing that many of the participants could shift to the subsequent EFP. Assuming limited participation under this EFP from July 2017 through the end of the 2017 fishing year, and a 16-percent ASM coverage level in 2017, we do not many EM trips under this EFP.

All catch of groundfish stocks allocated to sectors by vessels would be deducted from the sector's annual catch entitlement for each groundfish stock. Legal-sized regulated groundfish would be retained and landed, as required by the FMP. Undersized groundfish would be handled according to the EM project guidelines in view of cameras and returned to the sea as quickly as possible. All other species would be handled per normal commercial fishing operations. No legal-size regulated groundfish would be discarded, unless otherwise permitted through regulatory exemptions granted to the participating vessel's sector.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 11, 2017.
Karen H. Abrams,
Acting Deputy Director, Office of Sustainable Fisheries, National Marine Fisheries Service.

[FR Doc. 2017-07581 Filed 4-13-17; 8:45 am]

BILLING CODE 3510-22-P